DEPARTMENT OF HEALTH AND HUMAN SERVICES

Administration for Children and Families

Submission for OMB Review; Administration for Children and Families Uniform Project Description

AGENCY: Office of Administration, Office of Grants Policy, Administration for Children and Families, Department of Health and Human Services.

ACTION: Request for public comments.

SUMMARY: The Administration for Children and Families (ACF) is requesting a revision of the approved ACF Uniform Project Description (UPD) (Office of Management and Budget (OMB) # 0970-0139, expiration March 31, 2025).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION: Description: The proposed information collection would revise the approved ACF UPD. The UPD provides a uniform format for applicants to submit project information in response to ACF discretionary Notices of Funding Opportunity. The UPD requires applicants to describe how program objectives will be achieved and provide a rationale for the project's budgeted costs. All ACF discretionary grant programs are required to use the UPD.

ACF uses this information, along with other OMB-approved information collections (Standard Forms), to evaluate and rank applications. Use of the UPD protects the integrity of the ACF award selection process.

The UDP has been revised as follows: (1) included a text field for the Geographic Location standardized text, which will allow ACF program offices to enter project-specific language; (2) under Organizational Capacity, inserted an option to allow submission of an Audit Summary report in lieu of a full audit report; (3) inserted a checkbox and standardized language to request current and pending funding support; (4) added a prior written approval requirement to Plan for Oversight of Federal Award Funds and Activities; (5) included Memoranda of Agreement (MOA) under Third Party Agreements; and (6) updated The Project Budget and Budget Justification standardized language related to salary limitation, budget preparation, fringe benefits, definition of supplies, contractual costs, accounting for real property, the Other Costs category, and Indirect Costs.

Respondents: Applicants responding to ACF Discretionary Notices of Funding Opportunity.

Annual Burden Estimates
Instrument | Total number of respondents | Annual number of responses per respondent | Average burden hours per response | Annual burden hours
ACF Uniform Project Description | 3,218 | 1 | 60 | 193,080

Estimated Total Annual Burden Hours: 64,360.

Authority: 45 CFR 75.203 and 75.204, and 45 CFR part 75, appendix I.

Mary B. Jones,
ACF/OPRE Certifying Officer.

[FR Doc. 2022-23976 Filed 11-3-22; 8:45 am]

BILLING CODE 4184-01-P